DEPARTMENT OF TRANSPORTATION

National Highway Traffic Safety Administration

[Docket No. NHTSA-2024-0024]

Agency Information Collection Activities; Notice and Request for Comment; Motorcycle Crash Avoidance Technology Review

AGENCY: National Highway Traffic Safety Administration (NHTSA), Department of Transportation (DOT).

ACTION: Notice and request for comments on a request for approval of a new information collection.

SUMMARY: NHTSA invites public comments about our intention to request approval from the Office of Management and Budget (OMB) for a new information collection. The new information collection would be a one-time, voluntary, and anonymous survey of motorcycle riders to obtain consumer-reported feedback and perspectives on the use and availability of advanced crash avoidance motorcycle technologies. Before a Federal agency can collect certain information from the public, it must receive approval from OMB. Under procedures established by the Paperwork Reduction Act of 1995, before seeking OMB approval, Federal agencies must solicit public comment on proposed collections of information, including extensions and reinstatement of previously approved collections. This document describes the proposed motorcycle crash avoidance technology survey for which NHTSA intends to seek OMB approval.

DATES: Comments must be submitted on or before August 12, 2024.

ADDRESSES: You may submit comments identified by the Docket No. NHTSA-2024-0024 through any of the following methods:

• Electronic submissions: Go to the Federal eRulemaking Portal at http://www.regulations.gov. Follow the online instructions for submitting comments.

• Fax: (202) 493-2251.

• Mail or Hand Delivery: Docket Management, U.S. Department of Transportation, 1200 New Jersey Avenue SE, West Building, Room W12-140, Washington, DC 20590, between 9 a.m. and 5 p.m., Monday through Friday, except on Federal holidays. To be sure someone is there to help you, please call (202) 366-9322 before coming.

Instructions: All submissions must include the agency name and docket number for this notice. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket to read background documents or comments received, go to http://www.regulations.gov or the street address listed above. Follow the online instructions for accessing the dockets via internet.

FOR FURTHER INFORMATION CONTACT: For additional information or access to background documents, contact Mr. Ryan Rahimpour, NHTSA, Office of Vehicle Safety Research, (202) 366-8756, W46-432, U.S. Department of Transportation, 1200 New Jersey Avenue SE, Washington, DC 20590.

SUPPLEMENTARY INFORMATION: Under the Paperwork Reduction Act of 1995 (44 U.S.C. 3501 et seq.), before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following: (a) whether the proposed collection of information is necessary for the proper performance of the functions of the agency, including whether the information will have practical utility; (b) the accuracy of the agency's estimate of the burden of the proposed collection of information, including the validity of the methodology and assumptions used; (c) how to enhance the quality, utility, and clarity of the information to be collected; and (d) how to minimize the burden of the collection of information on those who are to respond, including the use of appropriate automated, electronic, mechanical, or other technological collection techniques or other forms of information technology, e.g. permitting electronic submission of responses. In compliance with these requirements, NHTSA asks for public comments on the following proposed collection of information for which the agency is seeking approval from OMB.

Title: Motorcycle Crash Avoidance Technology Review.

OMB Control Number: New.

Form Number(s): Eligibility Questionnaire, NHTSA Form 1811; Informed Consent, NHTSA Form 1812; Full Questionnaire, NHTSA Form 1813.

Type of Request: New Information Collection.

Type of Review Requested: Regular.

Requested Expiration Date of Approval: One year from date of approval.

Summary of the Collection of Information

NHTSA is seeking approval to conduct three voluntary, one-time, information collections that would be part of a survey of motorcycle riders to obtain consumer-reported feedback and perspectives on the use and availability of advanced crash avoidance motorcycle technologies. These information collections would be conducted by NHTSA's contractor, the University of Michigan Transportation Research Institute (UMTRI) and will involve a convenience sample of motorcycle riders and will collect information on current consumer perceptions of the utility and availability of the technologies, including consumer willingness to use advanced safety technology on motorcycles and the impact of various contextual factors (e.g., personal, mandates, costs) on this willingness. It is part of a research effort UMTRI is undertaking entitled “Motorcycle Crash Avoidance Technology Review,” which gathers data and performs analysis to summarize the scope of the motorcycle crashes, estimate the prevalence of different crash avoidance technologies available in the fleet, understand the crash avoidance technologies under development, and identify perspectives on advanced motorcycle technologies.

The three information collections include: (1) an eligibility questionnaire; (2) an informed consent; and (3) the survey questionnaire. The survey will ask respondents for background information on themselves (demographics, riding behavior, and safety habits like helmet use) to gauge whether knowledge and beliefs about motorcycle systems differ by these contexts. The survey will ask about respondents' knowledge and beliefs regarding motorcycle safety technology using open-ended questions where respondents can type in their responses. These questions include consumer willingness to use various motorcycle technologies and their perspectives on the impact of various contextual factors (e.g., personal beliefs, mandates, costs).

• Technologies include braking systems (anti-lock braking, combined braking, automatic emergency braking); warning systems (lane departure, blind spot, curve speed, forward collision, and rear collision); and control systems (stability control and wheelie control).

• Open-ended questions aim to gather unbiased perspective and allow a measure of accuracy of information available to consumers and users. Additionally, overall thoughts on technologies provide insight into user acceptance and can be evaluated by demographics and user characteristics.

• Willingness to purchase and use technologies provides perspective for incentivized incorporation of technologies and potential disengagement or modification to make inoperative.

• Cost considerations provide insight for potential policy decisions as they relate to cost-benefit analyses.

Description of the Need for the Information and Proposed Use of the Information

NHTSA's mission is to save lives, prevent injuries, and reduce the economic costs of road traffic crashes through education, research, safety standards, and enforcement activity. Subchapter V of chapter 301 of title 49 of the United States Code (U.S.C.) authorizes the Secretary of Transportation to conduct “motor vehicle safety research, development, and testing programs and activities, including activities related to new and emerging technologies that impact or may impact motor vehicle safety.” 49 U.S.C. 30182. Pursuant to section 1.95 of title 49 of the Code of Federal Regulations (CFR), the Secretary has delegated this authority to the National Highway Traffic Safety Administration (NHTSA).

As crash avoidance technologies advance, they have the potential to reduce the loss of life in roadway crashes. In order to better inform the agency's efforts regarding crash avoidance technologies for motorcyclists, NHTSA has contracted with the University of Michigan Transportation Research Institute (UMTRI) to conduct a project entitled “Motorcycle Crash Avoidance Technology Review”. The objectives of this project are to gather data and perform analysis to summarize the scope of the motorcycle crashes, estimate the prevalence of different crash avoidance technologies available in the fleet, understand the crash avoidance technologies under development, and identify perspectives on advanced motorcycle technologies. NHTSA is seeking approval for the information collection requested described in this document to conduct a survey of motorcyclists that will be conducted as a part of this project, to gain understanding of users' thoughts on these technologies and identify possible unintended consequences of mandating the technology.

This proposed survey would be a one-time, voluntary, and anonymous survey of motorcycle riders to obtain consumer-reported feedback and perspectives on the use and availability of advanced safety technologies on motorcycles. At this time, there is no similar information regarding consumer use and understanding of current advanced safety technology on motorcycles. The results of the information collection will help NHTSA better understand consumer-based barriers and facilitators to advanced motorcycle crash avoidance technology deployment. By understanding these barriers and facilitators, NHTSA can better develop related policy and consumer education materials to improve safety through the increased uptake and safe use of advanced technologies for motorcycles.

Affected Public: General public with motorcycle experience.

Estimated Number of Respondents: Initial outreach for respondents is targeted to reach 700 individuals, 420 individuals will move forward to the informed consent document, and 420 completed questionnaires.

Frequency: Once.

Estimated Annual Burden Hours: 124 hours.

This information collection request involves three information collections: (1) an eligibility questionnaire; (2) an informed consent form; and (3) the survey questionnaire. The administration of each of these information collections is completely electronic as well as the solicitation of respondents through targeted advertisements and motorcycle community web pages. The survey involves a convenience sample and will remain available for completion until a sample size of 300 completed surveys is achieved.

Initial outreach for respondents is targeted to reach 700 individuals willing to initiate the survey (in order to arrive at the final desired sample size of 300). The landing page for the survey is a three-question eligibility questionnaire, with an estimated time for completion of one minute. As this is a new format for gathering this type of information from this community, the research team estimates that 60 percent of the individuals who take the eligibility questionnaire will qualify to move forward. As such, 420 individuals will move forward to the informed consent document. It is assumed that all 420 individuals will complete the informed consent, which is also expected to take an average of one minute.

While all 420 respondents are expected to move forward for the survey questionnaire, the research team expects some non-response and some attrition of respondents. The research team is looking for 300 completed questionnaires. The 420 respondents are considered the maximum number of respondents needed to arrive at 300 completed questionnaires. A completed survey questionnaire is estimated to take on average 15 minutes.

The survey administration software contains the ability to set quotas for response. The research team will stop the solicitation of respondents once 700 individuals have begun the eligibility questionnaire or 300 completed questionnaires are gathered.

Burden costs are calculated as opportunity costs, as these individuals are taking their own time to complete the survey. NHTSA used an average hourly wage for all occupations to estimate the opportunity costs associated with the information collections. The Bureau of Labor Statistics (BLS) estimates that the mean hourly wage for all occupations is $31.48.¹ This is the hourly wage rate used to calculate the opportunity costs for administration of this survey.

¹ Bureau of Labor Statistics. “May 2023 OEWS National Occupational Employment and Wage Estimates.” Occupational Employment and Wage Statistics. https://www.bls.gov/oes/current/oes_nat.htm#00-0000. Accessed June 6, 2024

Full administration of the survey is expected to be completed within one year and, therefore, opportunity costs and hours are both total and annual estimates.

Table 1—Burden Estimates
NHSTA Form No. | Information collection | Number of respondents | Time per response (min) | Cost per response | Frequency of response | Time burden (hours) | Burden cost (dollars)
1811 | Eligibility Questionnaire | 700 | 1 | $0.52 | 1 | 12 | $364
1812 | Informed Consent | 420 | 1 | 0.52 | 1 | 7 | 218
1813 | Full Questionnaire | 420 | 15 | 7.87 | 1 | 105 | 3,305
| Annual Burden |  |  |  |  | 124 | 3,887

The annual opportunity cost for the administration of the survey is $3,887 and the annual burden hours for administration of the survey is 124 hours.

Estimated Annual Burden Cost: $0.

There is no cost to the respondents for this information collection. Respondents will not incur travel expenses nor be required to obtain equipment for completion of the survey.

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995; 44 U.S.C. chapter 35, as amended; 49 CFR 1.49; and DOT Order 1351.29A.

Cem Hatipoglu,
Associate Administrator for Vehicle Safety Research.

[FR Doc. 2024-12798 Filed 6-11-24; 8:45 am]

BILLING CODE 4910-59-P